DEPARTMENT OF TRANSPORTATION

Federal Highway Administration

Environmental Impact Statement in Buncombe County, NC

AGENCY: Federal Highway Administration (FHWA), DOT.

ACTION: Rescinding of Draft Environmental Impact Statement.

SUMMARY: The FHWA is issuing this notice to advise the public that we are rescinding the Draft Environmental Impact Statement (DEIS) for proposed I-26 Connector from I-40 to US 19-23-70 in Buncombe County, North Carolina. A notice of availability for the DEIS was published in the Federal Register on April 11, 2008.

FOR FURTHER INFORMATION CONTACT: For FHWA: Clarence W. Coleman, P.E., Preconstruction and Environment Director, Federal Highway Administration, 310 New Bern Avenue, Ste. 410, Raleigh, North Carolina 27601-1418; Telephone: (919) 747- 7014; email: clarence.coleman@dot.gov. FHWA North Carolina Division Office's normal business hours are 8 a.m. to 5 p.m. (Eastern Time). For the North Carolina Department of Transportation (NCDOT): Richard Hancock, P.E., Environmental Director, Project Development and Environmental Analysis, North Carolina Department of Transportation (NCDOT), PDEA—Century Center Bldg. A, 1000 Birch Ridge Drive, Raleigh, North Carolina 27610 (Delivery), 1548 Mail Service Center, Raleigh, North Carolina 27699-1548 (Mail); Telephone (919) 707-6000; email: RWHancock@ncdot.gov. NCDOT—Project Development and Environmental Analysis Branch Office's normal business hours are 8 a.m. to 5 p.m. (Eastern Time).

SUPPLEMENTARY INFORMATION: The FHWA, in cooperation with the North Carolina Department of Transportation (NCDOT), is rescinding the DEIS for a proposed multi-lane freeway, part on new location, from I-40 to US 19-23-70 in Buncombe County, North Carolina. On April 11, 2008, FHWA issued a notice of availability for the DEIS for this proposed project requesting that resource agencies and the public provide input and comments as part of the project development process. The Draft EIS evaluated several alternatives, including: (1) No Build, (2) Transportation Systems Management (TSM), (3) Transportation Demand Management (TDM), (4) Mass Transit, and (5) Build Alternatives. A public hearing was held following the completion of the Draft EIS on September 16, 2008. Based on the comments received from various Federal and state agencies and the public, a recent decision to add one build alternative and eliminate one build alternative and updates to many of the supporting technical studies, the FHWA and NCDOT have agreed to rescind the DEIS approved in April 2008.

FHWA and NCDOT plan to prepare a new Draft EIS for the proposed project. A notice of availability for the new DEIS will be issued subsequent to this rescinding notice. Comments or questions concerning the decision to rescind the DEIS approved in April 2008, should be directed to NCDOT or FHWA at the address provided above. To ensure that the full range of issues related to this proposed action are addressed and all significant issues identified, comments and suggestions are invited from all interested parties. Comments or questions concerning this proposed action and the EIS should be directed to the FHWA or NCDOT at the address provided above.

(Catalog of Federal Domestic Assistance Program Number 20.205, Highway Planning and Construction. The regulations implementing Executive Order 12372 regarding intergovernmental consultation of Federal programs and activities apply to this program.)

Issued On: August 7, 2014.
Clarence W. Coleman, Jr.,
Preconstruction & Environment Director, Raleigh, North Carolina.

[FR Doc. 2014-22626 Filed 9-22-14; 8:45 am]

BILLING CODE 4910-RY-P